DEPARTMENT OF THE TREASURY

Community Development Financial Institutions Fund

Funding Opportunity Title: Notice of Funds Availability (NOFA) inviting applications for the Community Development Financial Institutions (CDFI) Program FY 2013 Funding Round (FY 2013 Funding Round).

Announcement Type: Announcement of funding opportunity.

Catalog of Federal Domestic Assistance (CFDA) Number: 21.020.

Dates: Applications for Financial Assistance (FA) or Technical Assistance (TA) awards through the FY 2013 Funding Round of the CDFI Program must be received by 11:59 p.m. Eastern Time (ET), February 28, 2013.

Executive Summary: Subject to funding availability, this NOFA is issued in connection with the FY 2013 Funding Round of the CDFI Program, administered by the Community Development Financial Institutions (CDFI) Fund.

I. Funding Opportunity Description

A. Award Requirements: Through the CDFI Program, the CDFI Fund provides FA awards and TA grants. FA awards are made to Certified CDFIs that complete and submit a CDFI Program Application (Application) and meet the FA requirements set forth in this NOFA, subject to funding availability. The CDFI Fund requires that in order for an Applicant to be eligible for an award under this NOFA, they must be a newly Certified CDFI (certified within the last three calendar years) or recertified in FY 2013. (For further information, please see Section III.A.3 of this NOFA.) In addition, in FY 2013, the CDFI Fund will make FA awards through the Healthy Food Financing Initiative (HFFI-FA) to Certified CDFIs that meet the HFFI-FA requirements set forth in this NOFA. TA grants are made to Certified CDFIs and entities proposing to become certified that complete and submit the CDFI Program Application and meet the TA requirements set forth in this NOFA.

B. Program Regulations: The regulations governing the CDFI Program are found at 12 CFR Parts 1805 and 1815 (the Regulations) and provide guidance on evaluation criteria and other requirements. Details regarding Application content requirements are found in the Application and related materials. Each capitalized term in this NOFA is further defined in this NOFA, the Regulations, or the Application. The CDFI Fund encourages Applicants to review the Regulations in addition to this NOFA.

C. The CDFI Fund reserves the right to fund, in whole or in part, any, all, or none of the Applications submitted in response to this NOFA. The CDFI Fund reserves the right to reallocate funds from the amount that is anticipated to be available through this NOFA to other CDFI Fund programs, particularly if the CDFI Fund determines that the number of awards made through this NOFA is fewer than projected.

D. Coordination with Broader Community Development Strategies: Consistent with Federal efforts to promote community revitalization, it is important for communities to develop a comprehensive neighborhood revitalization strategy that addresses neighborhood assets essential to transforming distressed neighborhoods into healthy and vibrant communities. Neighborhood transformation can best occur when comprehensive neighborhood revitalization plans embrace the coordinated use of programs and resources that address the interrelated needs within a community. Although not a requirement for participating in the CDFI Program, the Federal government believes that a CDFI will be most successful when it is part of, and contributes to, an area's broader neighborhood revitalization strategy.

II. Award Information

A. Funding Availability: 1. FY 2013 Funding Round: Subject to funding availability, the CDFI Fund expects to award, through this NOFA, approximately $153 million in the manner indicated in the following table:

Table 1—FY 2013 Funding Round Awards
Funding categories | Proposed total amount to be awarded ($ million)
Category I/SECA | 15
Category II/Core | 110
TA | 3
Total | 128
HFFI-FA * | 25
* Approximately 20 percent of HFFI-FA funding will be targeted to SECA applicants.

Furthermore, in FY 2012, Congress mandated that at least ten percent of the CDFI Program's appropriations be directed to counties that meet certain criteria for “persistent poverty.” This requirement continues under the current Continuing Resolution for FY 2013 appropriations. As a result, the CDFI Fund invites Applicants to indicate their level of participation in counties of persistent poverty in their FY 2013 applications. The CDFI Fund reserves the right to award more or less than the amounts cited above in each category in the FY 2013 Funding Round, based upon available funding and other applicable factors.

2. Availability of Funds for the FY 2013 Funding Round: Funds for the FY 2013 Funding Round have not yet been appropriated. If funds are not appropriated for the CDFI Program, there will not be a FY 2013 Funding Round. If funds are appropriated, the amount of such funds may be greater or less than the amounts set forth above. If funds for the FY 2013 Funding Round for the Native American CDFI Assistance (NACA) Program are not appropriated, entities eligible to apply for CDFI Program funds that would have applied for NACA Program funding, are encouraged to apply for CDFI Program funds through this NOFA.

All awards made through this NOFA must be used to support the Applicant's activities. Awards cannot be used to support the activities of, or otherwise be passed through, transferred, or co-awarded to, third-party entities, whether Affiliates, Subsidiaries, or others. The entity that is to carry out the responsibilities of the award and deploy the award funds (the Awardee) must be the entity that applies for the award. In cases where CDFI bank holding company Applicants intend to deploy their FA awards through their 100 percent wholly-owned CDFI subsidiary bank, applications must be made at the CDFI bank holding company level and reflect consolidated activities and financial performance. Authorized representatives of both the holding company and the bank will be required to certify that the information included in the Application represents that of the CDFI bank and that the award funds will be used to capitalize the CDFI bank for the activities outlined in the Application.

B. Types of Awards: An Applicant may submit an Application for a TA grant or an FA award. FA awards include CDFI Program FA and HFFI-FA:

1. FA Awards: FA awards provide flexible financial support to CDFIs so they may achieve the strategies outlined in their Applications. FA awards can be used in the following five categories: (i) Financial Products; (ii) Financial Services; (iii) Development Services; (iv) Loan Loss Reserves; and (v) Capital Reserves. For purposes of this NOFA, the five categories mean:

Table 2—Five Categories of FA
(i) Financial Products | Loans, grants, equity investments, and similar financing activities, including the purchase of loans that the Applicant originates and the provision of loan guarantees, in the Applicant's Target Market, or for related purposes that the CDFI Fund deems appropriate (including administrative funds used to carry out Financial Products).
(ii) Financial Services | Checking and savings accounts, certified checks, automated teller machines services, deposit taking, remittances, safe deposit box services, and other similar services (including administrative funds used to carry out Financial Services).
(iii) Development Services | Activities that promote community development and help the Applicant provide its Financial Products and Financial Services, including financial or credit counseling, housing and homeownership counseling (pre- and post-), self-employment technical assistance, entrepreneurship training, and financial management skill-building (including administrative funds used to carry out Development Services).
(iv) Loan Loss Reserves | Funds set aside in the form of cash reserves, or through accounting-based accrual reserves, to cover losses on loans, accounts, and notes receivable made in the Target Market, or for related purposes that the CDFI Fund deems appropriate (including administrative funds used to carry out Loan Loss Reserves).
(v) Capital Reserves | Funds set aside as reserves to support the Applicant's ability to leverage other capital, for such purposes as increasing its net assets or serving the financing needs of its Target Market, or for related purposes that the CDFI Fund deems appropriate (including administrative funds used to carry out Capital Reserves).

The CDFI Fund may provide FA awards in the form of equity investments (including secondary capital in the case of certain Insured Credit Unions), grants, loans, deposits, credit union shares, or any combination thereof. The CDFI Fund reserves the right, in its sole discretion, to provide a FA award in a form and amount other than that which the Applicant requests; however, the award amount will not exceed the Applicant's award request as stated in its Application.

2. Healthy Food Financing Initiative (HFFI) and HFFI-FA awards: (a) Overview. The United States Department of Agriculture (USDA), the United States Department of Health and Human Services (HHS), and the United States Department of the Treasury are working together to support projects that increase access to healthy, affordable food in low-income neighborhoods that lack access to healthy food options. As part of a coordinated effort called the Healthy Food Financing Initiative (HFFI), these three agencies aim to expand the availability of nutritious food through the establishment of healthy food retail outlets, including developing and equipping grocery stores, small retailers, corner stores, and farmers markets to help revitalize neighborhoods that currently lack these options.

In addition to the CDFI and NACA Programs, the HFFI involves: (i) The New Markets Tax Credit (NMTC) Program, also administered by the CDFI Fund; (ii) the Community and Economic Development (CED) Program, which HHS administers; and (iii) several programs that USDA administers including, among others, the Business and Industry (B&I) Program and the Intermediary Relending Program (IRP). Each of these programs provides a unique mechanism to support initiatives aimed at increasing access to healthy food. When these programs are combined, public dollars can act far more effectively as a market catalyst by providing the full range of financing to local actors—a key step to addressing the problem of limited access to affordable and nutritious food. Instead of approaching this problem through separate agency and program silos, the HFFI will use a collaborative approach involving the resources of all three agencies. For more information about this initiative, please visit the HFFI Web site at http://apps.ams.usda.gov/fooddeserts.

(b) HFFI-FA Awards. The CDFI Fund expects to make HFFI-FA awards of up to $5 million to Certified CDFIs that submit and complete CDFI/NACA Program Applications and HFFI-FA Supplemental Questionnaires. The HFFI-FA Supplemental Questionnaire will only be sent to those Applicants indicating in their FY 2013 Application that they intend to apply for an HFFI-FA award. The CDFI Fund reserves the right to make awards less than or greater than $5 million based upon the questionnaires received and the funds available. The FY 2013 HFFI-FA supplemental questionnaire will not likely be made available to Applicants until after the FY 2013 CDFI Program Application deadline. However, a copy of the FY 2012 HFFI-FA supplemental questionnaire is available for review on the CDFI Fund's Web site at www.cdfifund.gov.

HFFI-FA awards will be provided as a supplement to FA awards; therefore, only those Applicants that have been selected to receive a FA award through the FY 2013 CDFI Program or NACA Program Funding Round will be eligible to receive an HFFI-FA award. Such Applicants will be rated and scored separately based upon the HFFI-FA supplemental questionnaire responses. HFFI-FA Applicants will be rated, among other elements, on the extent of community need, the quality of their HFFI-FA strategy, and their capacity to execute that strategy. The CDFI Fund may, at its discretion, perform additional due diligence on Applicants for this initiative.

3. TA Grants: (a) The CDFI Fund provides TA as a grant and reserves the right, in its sole discretion, to provide a grant for amounts other than which the Applicant requests; however, the grant amount will not exceed the Applicant's request as stated in its Application and the applicable budget chart.

(b) For purposes of this NOFA, TA eligible uses are: (i) Personnel/salary; (ii) personnel/fringe; (iii) professional services; (iv) travel; (v) training; and (vi) equipment. (Please see the Application Guidance for details on TA uses.) TA grants must be used to support the Applicant's capacity building activities.

C. Assistance Agreement: Each Awardee under this NOFA must sign an Assistance Agreement before the CDFI Fund will disburse award funds. The Assistance Agreement contains the award's terms and conditions. For further information, see Section VI.A of this NOFA.

III. Eligibility Information

A. Eligible Applicants: The Regulations specify the eligibility requirements each Applicant must meet in order to be eligible to apply for assistance under this NOFA. A CDFI Program Applicant may apply as either an FA Applicant or a TA Applicant, but not both. If an Applicant applies for both types of awards, it is in the sole discretion of the CDFI Fund to disqualify the Applicant or to decide to give the Applicant either an FA award or a TA grant.

1. FA Applicant Categories: FA Applicants must meet the criteria listed in Table 3. (Applicants requesting FA funds in excess of the allowable amount for Category I will be classified as Category II Applicants, regardless of their total assets, years in operation, or prior CDFI Fund awards.)

Table 3—FA Applicant Criteria
FA Applicant category | Applicant criteria | Applicant may apply for:
Category I/Small and/or Emerging CDFI Assistance (SECA) | (1) Is a Certified/Certifiable CDFI AND EITHER (2) As of the end of the Applicant's most recent fiscal year end or September 30, 2012, has total assets as follows: | Up to and including $600,000 in FA funds and up to and including $5 million in FA funds through HFFI-FA.
| • Insured Depository Institutions and Depository Institution Holding Companies: up to $250 million
| • Insured Credit Unions: up to $10 million
| • Venture capital funds: up to $10 million
| • Other CDFIs: up to $5 million
| OR (3) Began operations* on or after January 1, 2009.
Category II/Core | A Certified/Certifiable CDFI that meets all other eligibility requirements described in this NOFA | Up to and including $2 million in FA funds; and up to and including $5 million in FA funds through HFFI-FA.
* The term “began operations” is defined as the financing activity start date indicated in the Applicant's myCDFIFund account.

2. TA Applicants: TA Applicants must meet the following criteria:

Table 4—TA Applicant Criteria
Applicant type | Criteria of applicant | Applicant can apply for:
TA | A Certified CDFI, a Certifiable CDFI, or an Emerging CDFI | Up to $100,000 for capacity-building activities.

3. CDFI Certification Requirements: In FY 2013, the CDFI Fund requires that in order for an Applicant to be eligible for an award under this NOFA, they must be a newly Certified CDFI (certified within the last three calendar years) or recertified in FY 2013. Early in Calendar Year 2013, the CDFI Fund will announce a new process for submitting applications for CDFI certification, including the date by which any Certifiable CDFI or Certified CDFI must submit its application for certification/recertification in order for a determination on that application to be made concurrent with the announcement of awards under this NOFA. Until such time that a determination on a recertification application from a current Certified CDFI is made, the Certified CDFI's existing certification remains in effect, unless the Certified CDFI has taken actions demonstrating that it has failed to preserve and keep in full force and effect its certification as a CDFI.

Table 5—CDFI Certification—Requirements
(a) Certified CDFI | An entity that the CDFI Fund has officially notified that it meets all CDFI certification requirements as of the date of this NOFA and continues to meet certification requirements throughout the NOFA application process, leading to the announcement of awards under this NOFA.
(b) Certifiable CDFI | An entity that has submitted a CDFI Certification Application to the CDFI Fund demonstrating that it meets the CDFI certification requirements but for which the CDFI Fund has not yet officially certified the entity. If the CDFI Fund is unable to certify an Applicant and the Applicant is selected for a FA award, the CDFI Fund may, in its sole discretion, terminate the award commitment. The CDFI Fund will not enter into an Assistance Agreement or disburse FA award funds unless and until an Applicant is certified. A Certifiable CDFI must have submitted a CDFI Certification Application as of the date indicated in Section IV.F of this NOFA to be eligible for FA in the FY 2013 round.
(c) Emerging CDFI; | An entity that demonstrates to the CDFI Fund it has an acceptable plan to meet certification requirements by December 31, 2014, or another date selected by the CDFI Fund. Emerging CDFIs may only apply for TA grants; they are not eligible to apply for FA awards. Each Emerging CDFI selected to receive a TA grant will be required, pursuant to its Assistance Agreement with the CDFI Fund, to become certified as a CDFI by a specified date.

Table 6—Certification Definition for “Other Targeted Populations”
Other Targeted Population as Target Market | An Other Targeted Population is defined as an identifiable group of individuals in the Applicant's Service Area for which there exists strong evidence that they lack access to loans, equity investments, and or/Financial Services. The CDFI Fund has determined there is strong evidence that the following groups of individuals lack access to such products and services on a national level or within their recognized ancestral areas: (i) Native Americans or American Indians, including Alaska Natives living in Alaska; (ii) Blacks or African Americans; (iii) Hispanics or Latinos; (iv) Native Hawaiians living in Hawaii; and (v) other Pacific Islanders living in other Pacific Islands.
| To define these populations for the purposes of this NOFA, the CDFI Fund uses the following definitions, set forth in the Office of Management and Budget (OMB) Notice, Revisions to the Standards for the Classification of Federal Data on Race and Ethnicity (October 30, 1997), as amended and supplemented:
| (a) American Indian, Native American, or Alaska Native: A person having origins in any of the original peoples of North and South America (including Central America) and who maintains tribal affiliation or community attachment;
| (b) Black or African American: A person having origins in any of the black racial groups of Africa (terms such as Haitian or Negro can be used in addition to Black or African American);
| (c) Hispanic or Latino: A person of Cuban, Mexican, Puerto Rican, South or Central American, or other Spanish culture or origin, regardless of race (the term Spanish origin can be used in addition to Hispanic or Latino);
| (d) Native Hawaiian (living in Hawaii): A person having origins in any of the original peoples of Hawaii; and
| (e) Other Pacific Islander (living in other Pacific Islands): A person having origins in any of the original peoples of Guam, Samoa or other Pacific Islands.

4. Limitation on Awards: An Applicant may receive either an award through this FY 2013 NOFA or an award through the FY 2013 NACA Program NOFA, but not both. Although eligible Applicants can apply for the CDFI Program and the NACA Program, they will receive only one FY 2013 award.

B. Prior Awardees: For purposes of this section, the CDFI Fund will consider an Affiliate to be any entity that meets the definition of Affiliate in the Regulations or any entity otherwise identified as an Affiliate by the Applicant in its Application and/or its myCDFIFund account. Prior Awardees should note the following:

1. $5 Million Funding Cap: The CDFI Fund is currently prohibited from obligating more than $5 million in CDFI and NACA Program awards, in the aggregate, to any one organization and its Subsidiaries and Affiliates during any three-year period. In general, the three-year period calculated for the cap extends back three years from the Effective Date of the Assistance Agreement between the Awardee and the CDFI Fund. However, for purposes of this NOFA, because the funding cap was waived for FY 2009, FY 2010, and FY 2011, the CDFI Fund will include awards in the cap calculation that were provided to an Applicant (or its Subsidiaries or Affiliates) beginning with the FY 2012 Funding Round, excluding FY 2012 HFFI-FA awards. The CDFI Fund will assess the $5 million funding cap applicability during the award selection phase.

Please see the following table for other prior Awardee requirements and considerations.

Table 7—Prior Awardee Requirements and Considerations
Prior awardee situation | Requirements and considerations
Failure to Meet Reporting Requirements | The CDFI Fund will not consider an Application if the Applicant or its Affiliate is a prior Awardee/Allocatee under any CDFI Fund program and is not current on the reporting requirements in a previously executed assistance, allocation, or award agreement(s), as of this NOFA's Application deadline. Please note that the CDFI Fund's automated systems for receipt of reports submitted electronically typically acknowledge only a report's receipt. Such an acknowledgment does not verify nor otherwise represent that the report received was complete and therefore met reporting requirements.
Pending Resolution of Noncompliance | If an Applicant is a prior Awardee/Allocatee under any CDFI Fund program and: (i) The entity has submitted reports demonstrating noncompliance with a previously executed agreement with the CDFI Fund, and (ii) the CDFI Fund has yet to make a final determination as to whether the entity is in default of its previously executed agreement, the CDFI Fund will consider the Applicant's Application under this NOFA pending full resolution of the noncompliance, in the sole determination of the CDFI Fund.
Default Status | The CDFI Fund will not consider an Application submitted by an Applicant that is a prior Awardee/Allocatee under any CDFI Fund program if, as of the Application due date: (i) The CDFI Fund has made a determination that such Applicant is in default of a previously executed assistance, allocation or award agreement and (ii) the CDFI Fund has provided written notification of such determination to the Applicant indicating the length of time the default status is effective.
Undisbursed Award Funds | The CDFI Fund will not consider an Application if the Applicant is an Awardee under any CDFI Fund program and has undisbursed award funds (as defined below) as of this NOFA's Application deadline. The CDFI Fund will include the combined undisbursed prior awards, as of this NOFA's Application deadline, of the Applicant and its affiliates, including those in which the affiliated entity Controls the Applicant, is Controlled by the Applicant, or shares common management officials with the Applicant as the CDFI Fund determines.
• BEA Program Undisbursed Awards Calculations | For the BEA Program, undisbursed award funds will be included in the calculation of undisbursed awards for the Applicant and any three to five calendar years prior to the end of the calendar year of this NOFA's Application deadline. For purposes of this NOFA, therefore, undisbursed awards made in FYs 2007, 2008, and 2009 will be included in the calculation for the Applicant's undisbursed award amounts if the funds have not been disbursed as of this NOFA's Application deadline.
• CDFI Program Undisbursed Awards Calculations | The CDFI Program undisbursed funds will be calculated by adding all undisbursed award amounts made to the Applicant two to five calendar years prior to the end of the calendar year of this NOFA. Therefore, undisbursed CDFI Program awards made in FYs 2007, 2008, 2009, and 2010 will be included in the undisbursed calculation as of this NOFA's Application deadline.
| The CDFI Fund reserves the right to adjust the award amount issued under this NOFA based upon the amount of FY 2011 and FY 2012 awards that remain undisbursed.
• Undisbursed Award Calculations | Undisbursed awards cannot exceed five percent of the total includable awards for the Applicant's BEA/CDFI/NACA awards, as of this NOFA's Application deadline. (The total “includable” award amount is the total award amount from the relevant CDFI Fund program.) Please refer to an example of this calculation on the CDFI Fund's website, found in the Q&A document for the FY 2013 Funding Round. The “undisbursed award funds” calculation does not include: (i) Tax credit allocation authority made available through the NMTC Program; (ii) award funds that the Awardee has requested from the CDFI Fund by submitting a full and complete disbursement request before this NOFA's Application deadline; (iii) award funds for an award that the CDFI Fund has terminated or de-obligated; or (iv) award funds for an award that does not have a fully executed assistance or award agreement.

2. Contact the CDFI Fund: Applicants that are prior CDFI Fund Awardees are advised to: (i) Comply with requirements specified in assistance, allocation, and/or award agreement(s) and (ii) contact the CDFI Fund at least 10 business days prior to this NOFA's Application deadline to ensure necessary actions are underway for the disbursement or de-obligation of any prior outstanding award balance(s) as referenced above.

C. Matching Funds: 1. Matching Funds Requirements in General:

In FY 2012, the CDFI Fund's appropriations waived the matching funds requirement for Category 1/SECA and NACA Applicants. Consequently, the matching funds requirement remains under the current Continuing Resolution for FY 2013 Congressional appropriations and pertains to Category II/Core FA Applicants only; matching funds are not statutorily required for TA Applicants. If matching funds are not waived in the final appropriation, matching funds will also be required for Category I/SECA FA Applicants. Matching funds must be comparable in form and value to the FA award. This means that if an Applicant is requesting an FA award, the Applicant must show it has obtained matching funds through commitment(s) from non-Federal sources that are equal to the amount requested from the CDFI Fund. Applicants cannot use matching funds from a prior FA award under the CDFI Program or under another federal grant or award program to satisfy the matching funds requirement of this NOFA. If an Applicant seeks to use matching funds from an organization that was a prior Awardee under the CDFI Program, the CDFI Fund will deem such funds as Federal funds, unless the funding entity establishes and the CDFI Fund agrees, that such funds do not consist, in whole or in part, of CDFI Program funds or other Federal funds. The CDFI Fund reserves the right to contact the matching funds source to discuss the matching funds and the documentation that the Applicant has provided. The CDFI Fund encourages Applicants to review the Regulations at 12 CFR 1805.500 et seq. and matching funds guidance materials on the CDFI Fund's Web site for further information.

2. The CDFI Fund will not consider any FA Applicant for an award that has no matching funds in-hand or firmly committed as of this NOFA's Application deadline. Specifically, FA Applicants must meet the following matching funds requirements:

(a) Category II/Core Applicants: A Category II/Core Applicant must demonstrate that it has eligible matching funds equal to no less than 50 percent of the amount of the FA award requested in-hand on or after January 1, 2011 and on or before the Application deadline. The CDFI Fund reserves the right to rescind all or a portion of a FA award and re-allocate the rescinded award amount to other qualified Applicant(s), if an Applicant fails to obtain in-hand 100 percent of the required matching funds by January 15, 2014 (with required documentation of such receipt received by the CDFI Fund not later than January 31, 2014). The CDFI Fund may grant an extension of such matching funds deadline for specific Applicants selected to receive FA, if the CDFI Fund deems it appropriate. (Category I/SECA FA Applicants are not required to submit matching funds documentation with their Application. In the event that matching funds are not waived in the final Congressional appropriations for the CDFI Program, Category I/SECA FA Applicants will be given the opportunity to submit matching funds documentation at a later time.)

(b) HFFI-FA Applicants: All HFFI-FA Applicants must demonstrate that they have eligible matching funds equal to no less than 50 percent of the HFFI-FA amount requested in-hand on or after January 1, 2011, and on or before the deadline for the submitting the HFFI-FA Supplemental Questionnaire. (This requirement is not waived for Category 1/SECA and NACA Applicants.) The CDFI Fund reserves the right to rescind all or a portion of an HFFI-FA award and re-allocate the rescinded award amount to other qualified Applicant(s), if an Applicant fails to obtain in-hand 100 percent of the required matching funds by January 15, 2014 (with required documentation of such receipt received by the CDFI Fund not later than January 31, 2014). The CDFI Fund may grant an extension of such matching funds deadline for specific Applicants selected to receive HFFI-FA awards, if the CDFI Fund deems it appropriate.

3. Matching Funds Terms Defined; Required Documentation

Table 8—Matching Funds Definitions
Type of matching funds | Definition
Matching funds “in-hand” | The Applicant has actually received disbursement of the matching funds and provides to the CDFI Fund acceptable written documentation, showing the source, form, and amount of the matching funds (i.e., grant, loan, deposit, and equity investment). Applicants must provide copies of the following documentation depending on the type of award being requested: (i) Loans—the loan agreement and promissory note; (ii) grant—the grant letter or agreement for all grants of $50,000 or more; (iii) equity investment—the stock certificate and any related shareholder agreement. The Applicant must also provide acceptable documentation that demonstrates receipt of the matching funds, such as a copy of a check or a wire transfer statement.
Matching funds “firmly committed” | The Applicant has entered into or received a legally binding commitment from the matching funds source showing the match funds will be disbursed to the Applicant. The Applicant must also provide acceptable written documentation showing the source, form, and amount of the firm commitment (and, in the case of a loan, the terms thereof), as well as the anticipated disbursement date of the committed funds.

4. Ineligible Matching Funds: If the CDFI Fund determines that any portion of the Applicant's matching funds is ineligible under this NOFA, the CDFI Fund, in its sole discretion, may permit the Applicant to offer alternate matching funds as a substitute for the ineligible matching funds. In such instances: (i) The Applicant must provide acceptable alternate matching funds documentation within two business days of the CDFI Fund's request, and (ii) the alternate matching funds documentation will not increase the total amount of FA the Applicant requested.

5. Special Rule for Insured Credit Unions: The Regulations allow an Insured Credit Union to use retained earnings to serve as matching funds for a FA award in an amount equal to: (i) The increase in retained earnings that has occurred over the Applicant's most recent fiscal year; (ii) the annual average of such increases that has occurred over the Applicant's three most recent fiscal years; or (iii) the entire retained earnings that have been accumulated since the inception of the Applicant, as provided in the Regulations. For purposes of this NOFA, if option (iii) is used, the Applicant must increase its member and/or non-member shares or total loans outstanding by an amount equal to the amount of retained earnings committed as matching funds. This increase must occur by the end of the Awardee's second performance period, as set forth in its Assistance Agreement, and will be based on amounts reported in the Applicant's Audited or Reviewed Financial Statements or NCUA Form 5300 Call Report. The CDFI Fund will assess the likelihood of this increase during the Application review process. An award will not be made to any Applicant that has not demonstrated in the relevant Financial Statements or NCUA Call Report that it has increased shares or loans by at least 25 percent of the requested FA award amount between December 31, 2011, and December 31, 2012.

IV. Application and Submission Information

A. Application Submission: Under this NOFA, Applicants must submit Applications electronically through Grants.gov. The CDFI Fund will not accept Applications through myCDFIFund accounts nor will Applications be accepted via email, mail, facsimile, or other forms of communication, except in circumstances approved by the CDFI Fund beforehand.

B. Grants.gov: In compliance with Public Law 106-107 and Section 5(a) of the Federal Financial Assistance Management Improvement Act, the CDFI Fund is required to accept Applications submitted through the Grants.gov electronic system. The CDFI Fund strongly recommends Applicants start the registration process as soon as possible and visit www.grants.gov immediately. Applicants that have used Grants.gov in the past must verify that their registration is current and active. New Applicants must properly register, which may take several weeks to complete. Pursuant to OMB guidance (68 FR 38402), each Applicant must provide, as part of its Application submission, a Dun and Bradstreet Universal Numbering System (DUNS) number. In addition, each Application must include a valid and current Employer Identification Number (EIN). An electronic Application that does not include either a DUNS number or an EIN is incomplete and may not be transmitted to the CDFI Fund from Grants.gov. As a result, Applicants without a DUNS number or EIN should allow sufficient time for the IRS and/or Dun and Bradstreet to respond to inquiries and/or requests for identification numbers.

The CDFI Fund will not consider Applicants that fail to properly register in Grants.gov or to confirm they are properly registered and as a result, are unable to submit their Applications before the deadline. Applicants are reminded that the CDFI Fund does not maintain the Grants.gov registration or submittal process. Thus, Applicants must contact Grants.gov directly for issues related to that aspect of the Application submission process. Please see the following link for information on getting started on Grants.gov: http://grants.gov/applicants/organization_registration.jsp.

C. System for Award Management (SAM): On July 30, 2012, the Central Contractor Registration (CCR) transitioned to the new System for Award Management, or SAM. All data in the registrant database has been migrated from CCR into SAM. Applicants that need to create a new account or update their current registration must register for a user account in SAM. Registering with SAM is required for organizations to use Grants.gov. The registration process may take several business days for Applicants that have an EIN. If an Applicant does not have an EIN, the Applicant should allow several weeks for obtaining one from the IRS. The CDFI Fund will not consider Applicants that fail to properly register in SAM or to confirm they are properly registered and as a result, are unable to submit their Applications before the deadline. The CDFI Fund does not maintain the SAM registration process. Thus Applicants must contact SAM directly for issues related to registration. The CDFI Fund strongly encourages Applicants to ensure that their SAM registration is updated and that their accounts are not expired. For information regarding SAM registration, please visit https://www.sam.gov/portal/public/SAM.

D. myCDFIFund Accounts: myCDFIFund is the CDFI Fund's primary means of communication with Applicants. Every Applicant is responsible for ensuring its myCDFIFund account is up-to-date at all times. All Applicants must register as an organization and as a user with myCDFIFund before the Application deadline. An Applicant that fails to properly register and update its myCDFIFund account may miss important communications with the CDFI Fund that could impact its Application. For more information on myCDFIFund, please see the “Frequently Asked Questions” link posted at https://www.cdfifund.gov/myCDFI/Help/Help.asp.

E. Application Content Requirements: The Application and related documents can be found on the Grants.gov and the CDFI Fund's Web sites. The CDFI Fund anticipates posting the Application and related documents to the CDFI Fund's Web site on the same day that the NOFA is released or shortly thereafter. Once an Application is submitted to Grants.gov, the Applicant will not be allowed to change any element of the Application. The CDFI Fund, however, may contact the Applicant to clarify or confirm Application information.

F. Paperwork Reduction Act: Under the Paperwork Reduction Act (44 U.S.C. chapter 35), an agency may not conduct or sponsor a collection of information, and an individual is not required to respond to a collection of information, unless it displays a valid OMB control number. Pursuant to the Paperwork Reduction Act, the CDFI Program funding Application has been assigned the following control number: 1559-0021.

G. Application Deadlines:

1. Please see the following table for critical deadlines that are relevant to the FY 2013 Funding Round.

Table 9—FY 2013 Funding Round Application Critical Dates
Description | Date due | Time
Last day to contract Program staff | February 26, 2013 | 5:00 p.m.
Combined Program Application | February 28, 2013 | 11:59 p.m.

2. Late Delivery: The CDFI Fund will not accept an Application submitted after the Application deadline or any portion of an Application that is submitted after the Application deadline. Applicants are responsible for submitting their Applications on time through Grants.gov. The CDFI Fund will not grant exceptions or waivers. Any Application that is deemed ineligible or rejected will not be returned to the Applicant.

H. Intergovernmental Review: Not applicable.

I. Funding Restrictions: For allowable uses of FA proceeds, please see the Regulations at 12 CFR 1805.301.

V. Application Review Information

A. Format: Applicants must complete, and the CDFI Fund will only accept, the Application as provided in Grants.gov and the CDFI Fund's Web site. The FY 2013 Application is a PDF fillable document, with pre-set text limits and font size restrictions. Applicants must submit their narrative responses by using the FY 2013 CDFI Program Application narrative template. The completed narrative document should be submitted as an attachment to the PDF fillable document. Applicants should not submit information that has not been specifically requested in this NOFA or the Application. Applicants should not submit documents such as strategic plans or market studies unless the CDFI Fund has specifically requested such documents in the Application.

B. Review and Selection Process:

1. Eligibility and Completeness Review: The CDFI Fund will review each Application to determine whether it is complete and the Applicant meets the eligibility requirements described in Section III of this NOFA. An incomplete Application or one that does not meet eligibility requirements will be rejected.

2. Substantive Review: If the Applicant has submitted a complete and eligible Application, the CDFI Fund will conduct a substantive review in accordance with the criteria and procedures described in the Regulations, this NOFA, and the Application guidance. The CDFI Fund reserves the right to contact the Applicant by telephone, email, or mail for the sole purpose of clarifying or confirming Application information. If contacted, the Applicant must respond within the CDFI Fund's time parameters or run the risk of its Application being rejected.

3. Application Scoring and Award Selection (FA and TA Applicants):

(a) Application Scoring: The CDFI Fund will evaluate each Application on the criteria categories and the scoring scale described in the Application. An Applicant must receive a minimum score in each evaluation criteria in order to be considered for an award. The CDFI Fund will score each part as indicated in the following table:

Table 10—Application Scoring Criteria
Comprehensive Business Plan (CBP) sections | FA applicants | TA applicants
Executive Summary | Not Scored | Not Scored.
Historic and High Impact | 15 points | Not Applicable.
Technical Assistance Proposal (TAP) | Not Applicable | 30 points.
Needs & Demand | 15 points | 15 points.
Products, Services, and Marketing | 30 points | 25 points.
Management Capacity | 20 points | 15 points.
Financial Capacity | 20 points | 15 points.
Performance on Past Awards (If Applicable) | Not Scored | Not Scored.
Community Partners (If Applicable) | Not Scored | Not Scored.
Total Point | 100 points | 100 points.

Applicants whose activities are part of a broader neighborhood revitalization strategy and/or that target marginalized or isolated populations will be scored more favorably under the section of the Application pertaining to Target Market Needs.

(b) Evaluating Prior Award Performance: The CDFI Fund will deduct points for any Applicant that is a prior Awardee or Allocatee of any CDFI Fund program if the Applicant: (i) Is noncompliant with any award by failing to meet performance goals and measures, reporting deadlines, or other requirements set forth in the CDFI Fund's assistance, allocation, or award agreement(s) for reports due during the Applicant's two completed fiscal years prior to this NOFA's Application deadline; and (ii) failed to make timely loan payments to the CDFI Fund during the Applicant's two complete fiscal years prior to this NOFA's Application deadline (if applicable). In addition, the CDFI Fund will deduct points if a FA Applicant had funds de-obligated for FA awards issued in FY 2010, 2011 or 2012 if: (i) The amount of de-obligated funds is at least $200,000 and (ii) the de-obligation occurred within the 12 months prior to this NOFA's Application deadline. The CDFI Fund has the sole discretion to deduct points from prior Awardees/Allocatees if those Applicants have proceedings instituted against them in, by, or before any court, governmental agency, or administrative body and has received a final determination within the last three calendar years indicating the Applicant has discriminated on the basis of race, color, national origin, disability, age, marital status, receipt of income from public assistance, religion, or sex.

(c) Award Selection: The CDFI Fund will make its final award selections based on the Applicants' scores, ranked from highest to lowest, and the amount of funds available. In the case of tied scores, Applicants will be ranked first according to each Financial Capacity score; followed by the Historic and High Impact score. TA Applicants, Category I, and Category II Applicants will be grouped and ranked separately. In addition, the CDFI Fund may consider the institutional and geographic diversity of Applicants when making its funding decisions.

4. Insured CDFIs: In the case of Insured Depository Institutions and Insured Credit Unions, the CDFI Fund will consider information provided by, and views of, the Appropriate Federal Banking Agencies. If the Applicant is a CDFI bank holding company, the CDFI Fund will consider information provided by the Appropriate Federal Banking Agencies of the CDFI bank holding company and the CDFI bank that will implement the award. Throughout the award review process, the CDFI Fund will consult with the Appropriate Federal Banking Agency about the Applicant's financial safety and soundness. If the Appropriate Federal Banking Agency identifies safety and soundness concerns, the CDFI Fund will assess whether the concerns cause or will cause the Applicant to be incapable of undertaking the activities for which funding has been requested. If it is determined the Applicant is incapable of meeting its obligations, the CDFI Fund reserves the right to rescind the award decision. The CDFI Fund also reserves the right to require Insured CDFI Applicants to improve safety and soundness conditions prior to receiving an award disbursement. In addition, the CDFI Fund will take into consideration Community Reinvestment Act assessments of Insured Depository Institutions and/or their Affiliates.

5. Award Notification: Each Applicant will be informed of the CDFI Fund's award decision through a notification in the Applicant's myCDFIFund account. This includes notification to Applicants that have not been selected for an award if the decision is based on reasons other than completeness or eligibility. Applicants that have not been selected for an award will receive a debriefing in their myCDFIFund account.

6. Application Rejection: The CDFI Fund reserves the right to reject an Application if information (including administrative errors) comes to the CDFI Fund's attention that either adversely affects an Applicant's eligibility for an award, adversely affects the CDFI Fund's evaluation or scoring of an Application, or indicates fraud or mismanagement on the Applicant's part. If the CDFI Fund determines any portion of the Application is incorrect in a material respect, the CDFI Fund reserves the right, in its sole discretion, to reject it. The CDFI Fund reserves the right to change its eligibility and evaluation criteria and procedures, if the CDFI Fund deems it appropriate. If the changes materially affect the CDFI Fund's award decisions the CDFI Fund will provide information about the changes through the CDFI Fund's Web site. The CDFI Fund's award decisions are final and there is no right to appeal the decisions.

VI. Award Administration Information

A. Assistance Agreement: Each Applicant selected to receive an award under this NOFA must enter into an Assistance Agreement with the CDFI Fund in order to receive disbursement of the award funds. The Assistance Agreement will set forth the award's terms and conditions, including but not be limited to the award: (i) Amount; (ii) type; (iii) uses; (iv) targeted market or activities; (v) performance goals and measures; and (vi) reporting requirements. FA Assistance Agreements will usually have three-year performance periods; TA Assistance Agreements will usually have two-year performance periods. All FA and TA Awardees that are not Insured CDFIs will be required to provide the CDFI Fund with a certificate of good standing from the secretary of state for the Awardee's state of incorporation. This certificate can often be acquired online on the secretary of state Web site for the Awardee's state of incorporation and must generally be dated within 270 days of the date the Awardee executes the Assistance Agreement. Due to potential backlogs in state government offices, Applicants are advised to submit requests for certificates of good standing at the time that they submit their Applications. If prior to entering into an Assistance Agreement with the CDFI Fund, information (including administrative error) comes to the CDFI Fund's attention that either: (i) Adversely affects the Awardee's eligibility for an award, (ii) adversely affects the Awardee's certification as a CDFI (to the extent that the Award is conditional upon CDFI Certification), (iii) adversely affects the CDFI Fund's evaluation of the Awardee's Application, or (iv) indicates fraud or mismanagement on the Awardee's part, the CDFI Fund may, in its discretion and without advance notice to the Awardee, terminate the award or take such other actions as it deems appropriate. The CDFI Fund reserves the right, in its sole discretion, to rescind an award if the Awardee fails to return the Assistance Agreement, signed by the authorized representative of the Awardee, and/or provide the CDFI Fund with any other requested documentation, within the CDFI Fund's deadlines.

1. Failure to Meet Reporting Requirements: If an Awardee is a prior Awardee/Allocatee under any CDFI Fund program and is not current with the reporting requirements set forth in the previously executed agreement(s) with the CDFI Fund, the CDFI Fund reserves the right, in its sole discretion, to delay entering into an Assistance Agreement until the Awardee/Allocatee is current with the reporting requirements. Please note that the automated systems employed by the CDFI Fund for receipt of reports submitted electronically typically acknowledge only a report's receipt; such an acknowledgment does not warrant that the report received was complete and therefore met reporting requirements. If the prior Awardee/Allocatee is unable to meet this requirement within the timeframe the CDFI Fund sets, the CDFI Fund reserves the right, in its sole discretion, to terminate and rescind the Assistance Agreement and the award made under this NOFA.

2. Failure to Maintain Certification. If an Awardee had applied for an award under this NOFA as a Certified CDFI and the certified status is an ongoing obligation of the award but the Awardee has failed to preserve and keep in full force and effect its certification as a CDFI, the CDFI Fund reserves the right, in its sole discretion, to terminate and rescind the Assistance Agreement and the award made under this NOFA.

3. Pending Resolution of Noncompliance: If an Applicant is a prior Awardee under any CDFI Fund program and if: (i) IT has submitted reports to the CDFI Fund that demonstrate noncompliance with a previous executed agreement with the CDFI Fund; and (ii) the CDFI Fund has yet to make a final determination as to whether the entity is in default of its agreement, the CDFI Fund reserves the right, in its sole discretion, to delay entering into an Assistance Agreement, pending full resolution of the noncompliance issue to the CDFI Fund's satisfaction. If the said prior Awardee/Allocatee is unable to satisfactorily resolve the compliance issues, the CDFI Fund reserves the right, in its sole discretion, to terminate and rescind the Assistance Agreement and the award made under this NOFA.

4. Default Status: If, at any time prior to entering into an Assistance Agreement through this NOFA, the CDFI Fund has made a final determination that an Awardee is a prior Awardee/Allocatee under any CDFI Fund program is in default of a previously executed assistance, allocation, or award agreement(s) and has provided written notification of such determination to the Awardee, the CDFI Fund reserves the right, in its sole discretion, to delay entering into an Assistance Agreement, until said prior Awardee/Allocatee has cured the default by taking actions necessary as specified by the CDFI Fund and within the timeframe specified by the CDFI Fund. If said prior Awardee/Allocatee is unable to meet this requirement and the CDFI Fund has not specified in writing that the prior Awardee/Allocatee is otherwise eligible to receive an award under this NOFA, the CDFI Fund reserves the right, in its sole discretion, to terminate and rescind the Assistance Agreement and the award made under this NOFA.

5. Termination in Default: If prior to entering into an Assistance Agreement under this NOFA (i) the CDFI Fund has made a determination that an Awardee is a prior Awardee/Allocatee under any CDFI Fund Program for which the award or allocation was terminated in default of such prior agreement; (ii) the CDFI Fund has provided written notification of such determination to the Awardee; and (iii) the anticipated date for entering into the Assistance Agreement under this NOFA is within a period of time specified in such notification throughout which any new award, allocation, or assistance is prohibited, the CDFI Fund reserves the right, in its sole discretion, to terminate and rescind the Assistance Agreement and the award made under this NOFA.

6. Compliance with Federal Anti-Discrimination Laws: If the Awardee has previously received funding through any CDFI Fund program, and if at any time prior to entering into an Assistance Agreement through this NOFA, the CDFI Fund is made aware of a final determination, made within the last three years, in any proceeding instituted against the Awardee in, by, or before any court, governmental, or administrative body or agency, declaring that the Awardee has discriminated on the basis of race, color, national origin, disability, age, marital status, receipt of income from public assistance, religion, or sex, the CDFI Fund reserves the right, in its sole discretion, to terminate and rescind the Assistance Agreement and the award made under this NOFA.

B. Reporting:

1. Reporting requirements: At least on an annual basis, the CDFI Fund will collect information from each Awardee including, but not limited to, an Annual Report with the following components: (i) Financial Reports, (ii) OMB A-133 audit; (iii) A-133 Narrative Report; (iv) Institution Level Report; (v) Transaction Level Report (for Awardees receiving FA awards); (vi) Financial Status Report SF-425 (for Awardees receiving TA grants); (vii) Uses of Financial Assistance (for Awardees receiving FA awards); (viii) Uses of Technical Assistance (for Awardees receiving TA grants); (ix) Explanation of Noncompliance (as applicable); and (x) such other information as the CDFI Fund may require. Each Awardee is responsible for the timely and complete submission of the Annual Report, even if all or a portion of the documents is actually completed by another entity or signatory to the Assistance Agreement. If such other entities or signatories are required to provide Institution Level Reports, Transaction Level Reports, Financial Reports, or other documentation that the CDFI Fund may require, the Awardee is responsible for ensuring that the information submitted is timely and complete. The CDFI Fund reserves the right to contact such additional entities or signatories to the Assistance Agreement and require that additional information and documentation be provided. The CDFI Fund will use such information to monitor each Awardee's compliance with the requirements in the Assistance Agreement and to assess the impact of the CDFI Program. All reports with the exception of the Institution Level Report and the Transaction Level Report must be electronically submitted directly to the CDFI Fund via the Awardee's myCDFIFund account. The Institution Level Report and the Transaction Level Report must be submitted through the CDFI Fund's web-based data collection system, the Community Investment Impact System (CIIS) accessed through the Awardee's myCDFIFund account. The CDFI Fund reserves the right, in its sole discretion, to modify these reporting requirements if it determines it to be appropriate and necessary; however, such reporting requirements will be modified only after notice to Awardees.

2. Accounting: The CDFI Fund will require Awardee to account for and track the use of its award. This means that Awardees must track every dollar and must inform the CDFI Fund of its uses. This will require Awardees to establish separate administrative and accounting controls, subject to the applicable OMB Circulars. The CDFI Fund will provide guidance on the format and content of the annual information to be provided, outlining and describing how the funds were used. All Awardees are responsible for ensuring their banking account information is updated and accurate in the System for Award Management (SAM) as directed in this NOFA's Section IV. C.

VII. Agency Contacts

A. The CDFI Fund will respond to questions concerning this NOFA and the Application between the hours of 9:00 a.m. and 5:00 p.m. Eastern Time, starting on the date that the NOFA is published through two business days prior to the Application deadline. During the two business days prior to the Application deadline, the CDFI Fund will not respond to questions for Applicants until after the Application deadline. Applications and other information regarding the CDFI Fund and its programs may be obtained from the CDFI Fund's Web site at http://www.cdfifund.gov. The CDFI Fund will post on its Web site responses to questions of general applicability regarding the CDFI Program.

B. Applicants may contact the CDFI Fund as follows:

Table 11—Contact Information
Fax number for all offices: 202-453-2466: Type of question | Fax number for all offices: 202-453-2466: Telephone number (not toll free) | Fax number for all offices: 202-453-2466: Email addresses
CDFI Program | 202-653-0421, option 1 | cdfihelp@cdfi.treas.gov.
Native Initiatives/NACA | 202-653-0421, option 2 | cdfihelpl@cdfi.treas.gov.
Certification, Compliance Monitoring, and Evaluation | 202-653-0423 | ccme@cdfi.treas.gov.
Information Technology Support | 202-653-0300 | IThelpdesk@cdfi.treas.gov.

C. Information Technology Support: People who have visual or mobility impairments that prevent them from creating a Target Market map using the CDFI Fund's Web site should call (202) 653-0300 for assistance (this is not a toll free number).

D. Communication with the CDFI Fund: The CDFI Fund will use contact information in myCDFIFund to communicate with Applicants and Awardees. It is imperative; therefore, that Applicants, Awardees, Subsidiaries, Affiliates, and signatories maintain accurate contact information in their accounts. This includes information like contact names, especially for the authorized representative; email addresses; fax and phone numbers; and office locations. For more information about myCDFIFund, as well as information on the Community Investment Impact System, please see the following Web site: http://www.cdfifund.gov/ciis/accessingciis.pdf.

VIII. Information Sessions and Outreach

The CDFI Fund may conduct webinars or host information sessions for organizations that are considering applying to, or are interested in learning about, the CDFI Fund's programs. For further information, please visit the CDFI Fund's Web site at http://www.cdfifund.gov.

Authority: 12 U.S.C. 4701, et seq; 12 CFR parts 1805 and 1815.

Dated: December 21, 2012.
Donna J. Gambrell,
Director, Community Development Financial Institutions Fund.

[FR Doc. 2012-31167 Filed 12-27-12; 8:45 am]

BILLING CODE 4810-70-P